FEDERAL ELECTION COMMISSION

Sunshine Act Notice

AGENCY: Federal Election Commission.

DATE AND TIME: Wednesday, May 6, 2015 at 2:00 p.m.

PLACE: 999 E Street NW., Washington, DC (Ninth Floor).

STATUS: This hearing will be open to the public.

Federal Register Notice of Previous Announcement—80 FR 24923

CHANGE IN THE HEARING: The hearing has been rescheduled for Wednesday, May 13, 2015 at 10:00 a.m.

Individuals who plan to attend and require special assistance, such as sign language interpretation or other reasonable accommodations, should contact Shawn Woodhead Werth, Secretary, at (202) 694-1040, at least 72 hours prior to the hearing date.

Person to Contact for Information: Judith Ingram, Press Officer, Telephone: (202) 694-1220.

Shawn Woodhead Werth,
Secretary and Clerk of the Commission.

[FR Doc. 2015-11633 Filed 5-11-15; 4:15 pm]

BILLING CODE 6715-01-P